INTERNATIONAL TRADE COMMISSION

[Investigation No. 337-TA-1392]

Certain Oil Vaporizing Devices, Components Thereof, and Products Containing the Same; Notice of Institution of Investigation

AGENCY: U.S. International Trade Commission.

ACTION: Notice.

SUMMARY: Notice is hereby given that a complaint was filed with the U.S. International Trade Commission on January 30, 2024, under section 337 of the Tariff Act of 1930, as amended, on behalf of PAX Labs Inc. of San Francisco, California. Supplements were filed on February 19, 2024, February 20, 2024, and February 21, 2024. The complaint alleges violations of section 337 based upon the importation into the United States, the sale for importation, and the sale within the United States after importation of certain oil vaporizing devices, components thereof, and products containing the same by reason of the infringement of certain claims of U.S. Patent No. 11,369,756 (“the '756 patent”); U.S. Patent No. 11,369,757 (“the '757 patent”); U.S. Patent No. 11,766,527 (“the '527 patent”); 11,759,580 (“the '580 patent”). The complaint further alleges that an industry in the United States exists as required by the applicable Federal Statute. The complainant requests that the Commission institute an investigation and, after the investigation, issue a limited exclusion order and a cease and desist order.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on February 29, 2024, ORDERED THAT—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-3, 5-13, and 15-17 of the '756 patent; claims 1-20 of the '757 patent; claims 1-30 of the '527 patent; and claims 1-20 of the '580 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “vaporizing devices capable of vaporizing oils, components thereof and products containing the same” where the components of a vaporizing device are “a mouthpiece, a cartridge body, an atomizer, a distal member, a bottom cover, a vaporizer body including a cartridge receiver,” as well as a “battery,” and where products containing the same are cartridge and battery components “sold in combination with a power charging device in which the [cartridge] or battery would each be one component of the downstream product”;

(3) For the purpose of the investigation so instituted, the following are hereby named as parties upon which this notice of investigation shall be served:

(a) The complainant is:

PAX Labs Inc., 660 Alabama Street, Second Floor, San Francisco, CA, 94110

(b) The respondents are the following entities alleged to be in violation of section 337, and is the parties upon which the complaint is to be served:

STIIIZY IP LLC f/k/a STIIIZY, LLC, 728 East Commercial Street, Los Angeles, CA 90012

ALD Group Limited, No. 2 Industrial Third Road, Tangtou Community, Shiyan Street, Bao'an District, Shenzhen, Guangdong Province, China 518108

ALD (Hong Kong) Holdings Limited, 19H Maxgrand Plaza No. 3, Tai Yau Street, San Po Kong, Kowloon, Hong Kong

STIIIZY Inc. d/b/a Shryne Group Inc., 2001 South Alameda Street, Los Angeles, CA 90058; and

(4) For the investigation so instituted, the Chief Administrative Law Judge, U.S. International Trade Commission, shall designate the presiding Administrative Law Judge.

The Office of Unfair Import Investigations will not be a party to this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: February 29, 2024.
Lisa Barton,
Secretary to the Commission.

[FR Doc. 2024-04705 Filed 3-5-24; 8:45 am]

BILLING CODE 7020-02-P